DEPARTMENT OF ENERGY

Federal Energy Regulatory Commission

[Docket No. RP01-245-010]

Transcontinental Gas Pipe Line Corporation; Notice of Compliance Filing

August 1, 2002.

Take notice that on July 23, 2002, Transcontinental Gas Pipe Line Corporation (Transco), tendered for filing as part of its FERC Gas Tariff, Third Revised Volume No. 1, 3rd Sub Fourth Revised Sheet No. 328 and Second Revised Sheet No. 330, with an effective date of September 1, 2001.

Transco states that the purpose of this filing is to reflect the most recently approved provisions for Rate Zones, of Section 21 of the General Terms and Conditions, in Transco's currently effective tariff. These provisions were inadvertently removed from Transco's tariff by the Commission in its June 28, 2002 Order, in Docket No. RP98-430-002 which approved changes to Section 20 of the General Terms and Conditions (Policy For Construction Of Interconnect Facilities).

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-19934 Filed 8-6-02; 8:45 am]

BILLING CODE 6717-01-P